DEPARTMENT OF COMMERCE

International Trade Administration

[C-570-161, C-533-923]

2,4-Dichlorophenoxyacetic Acid From the People's Republic of China and India: Initiation of Countervailing Duty Investigations

AGENCY: Enforcement and Compliance, International Trade Administration, Department of Commerce.

DATES: Applicable April 23, 2024.

FOR FURTHER INFORMATION CONTACT: Claudia Cott (the People's Republic of China) and Frank Schmitt (India), AD/CVD Operations, Offices I and VI, Enforcement and Compliance, International Trade Administration, U.S. Department of Commerce, 1401 Constitution Avenue NW, Washington, DC 20230; telephone: (202) 482- 4270 and (202) 482-4880, respectively.

SUPPLEMENTARY INFORMATION:

The Petitions

On March 14, 2024, the U.S. Department of Commerce (Commerce) received countervailing duty (CVD) petitions concerning imports of 2,4-dichlorophenoxyacetic acid (2,4-D) from the People's Republic of China (China) and India filed in proper form on behalf of Corteva Agriscience LLC (the petitioner),¹ a domestic producer of 2,4-D. The CVD petitions were accompanied by antidumping duty (AD) petitions concerning imports of 2,4-D from China and India.² On April 3, 2024, after considering comments regarding industry support, Commerce extended the initiation deadline by 20 days to further examine the issue of industry support, because it was not clear from the Petitions whether the industry support criteria had been met.³

¹ See Petitioner's Letter, “Petition for the Imposition of Antidumping and Countervailing Duties: 2,4-dichlorophenoxyacetic acid from the People's Republic of China and India,” dated March 14, 2024 (the Petitions).

² Id.

³ See Notice of Extension of the Deadline for Determining the Adequacy of the Antidumping and Countervailing Duty Petitions: 2,4-Dichlorophenoxyacetic Acid from the People's Republic of China and India, 89 FR 24431, 24432 (April 8, 2024).

Between March 18 and April 4, 2024, Commerce requested supplemental information pertaining to certain aspects of the Petitions.⁴ Between March 20 and April 9, 2024, the petitioner filed responses to these requests for additional information.⁵

⁴ See Commerce's Letters, “Supplemental Questions,” dated March 18, 2024 (General Issues Questionnaire); “Supplemental Questions,” dated March 19, 2024; and “Supplemental Questions,” dated March 20, 2024; see also Memoranda, “Phone Call,” dated March 26, 2024 (March 26 Memorandum), and “Phone Call,” dated April 5, 2024, respectively; and Commerce's Letter, “Supplemental Questions Pertaining to Industry Support,” dated April 4, 2024 (Industry Support Supplemental Questionnaire).

⁵ See Petitioner's Letters, “General Issues and Injury Questionnaire Response,” dated March 20, 2024 (First General Issues Supplement); “China Countervailing Supplemental Questionnaire Response,” dated March 25, 2024; “India Countervailing Supplemental Questionnaire Response,” dated March 26, 2024; “Scope Supplemental Questionnaire Response,” dated March 27, 2024 (Second General Issues Supplement); and “Supplemental Questions on Industry Support,” dated April 9, 2024 (Industry Support Supplement); see also Memorandum, “Acceptance of Petitioner's Submission,” dated March 27, 2024.

In accordance with section 702(b)(1) of the Tariff Act of 1930, as amended (the Act), the petitioner alleges that the Government of China (GOC) and the Government of India (GOI) are providing countervailable subsidies, within the meaning of sections 701 and 771(5) of the Act, to producers of 2,4-D from China and India, respectively, and that such imports are materially injuring, or threatening material injury to, the domestic industry producing 2,4-D in the United States. Consistent with section 702(b)(1) of the Act and 19 CFR 351.202(b), for those alleged programs on which we are initiating CVD investigations, the Petitions are supported by information reasonably available to the petitioner.

Commerce finds that the petitioner filed the Petitions on behalf of the domestic industry because the petitioner is an interested party as defined in section 771(9)(C) of the Act. Commerce also finds that the petitioner demonstrated sufficient industry support with respect to the initiation of the requested CVD investigations.⁶

⁶ See “Determination of Industry Support for the Petitions,” infra.

Periods of Investigation

Because the Petitions were filed on March 14, 2024, the periods of investigation (POI) for China and India are January 1, 2023, through December 31, 2023.⁷

⁷ See 19 CFR 351.204(b)(2).

Scope of the Investigations

The product covered by these investigations is 2,4-D from China and India. For a full description of the scope of these investigations, see the appendix to this notice.

Comments on Scope of the Investigations

Between March 18 and April 4, 2024, Commerce requested information from the petitioner regarding the proposed scope to ensure that the scope language in the Petitions is an accurate reflection of the products for which the domestic industry is seeking relief.⁸ Between March 20 and April 9, 2024, the petitioner provided clarifications and/or revised the scope language.⁹ The description of merchandise covered by these investigations, as described in the appendix to this notice, reflects these clarifications.

⁸ See General Issues Questionnaire; see also March 26 Memorandum; and Industry Support Supplemental Questionnaire.

⁹ See First General Issues Supplement at 1-3; see also Second General Issues Supplement at 1-2; and Industry Support Supplement at 1.

As discussed in the Preamble to Commerce's regulations, we are setting aside a period for parties to raise issues regarding product coverage (i.e., scope).¹⁰ Commerce will consider all scope comments received from interested parties and, if necessary, will consult with interested parties prior to the issuance of the preliminary determinations. If scope comments include factual information, all such factual information should be limited to public information.¹¹ To facilitate preparation of its questionnaires, Commerce requests that scope comments be submitted by 5:00 p.m. Eastern Time (ET) on May 13, 2024, which is 20 calendar days from the signature date of this notice. Any rebuttal comments, which may include factual information, must be filed by 5:00 p.m. ET on May 23, 2024, which is ten calendar days from the initial comment deadline.

¹⁰ See Antidumping Duties; Countervailing Duties, 62 FR 27296, 27323 (May 19, 1997) (Preamble); see also 19 CFR 351.312.

¹¹ See 19 CFR 351.102(b)(21) (defining “factual information”).

Commerce requests that any factual information that the parties consider relevant to the scope of the investigations be submitted during that time period. However, if a party subsequently finds that additional factual information pertaining to the scope of the investigations may be relevant, the party may contact Commerce and request permission to submit the additional information. All scope comments must also be filed on the record of each of the concurrent AD and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at: https://access.trade.gov/help.aspx and a handbook can be found at: https://access.trade.gov/help/Handbook_on_Electronic_Filing_Procedures.pdf.

Consultations

Pursuant to sections 702(b)(4)(A)(i) and (ii) of the Act, Commerce notified the GOC and the GOI of the receipt of the Petitions and provided each an opportunity for consultations with respect to the Petitions.¹³ Commerce held consultations with the GOC and the GOI, on March 26, and 28, 2024, respectively.¹⁴

¹³ See Commerce's Letters, “Countervailing Duty Petition on 2,4-Dichlorophenoxyacetic Acid from the People's Republic of China,” dated March 15, 2024; and “Invitation for Consultation to Discuss the Countervailing Duty Petition on 2,4-Dichlorophenoxyacetic Acid from India,” dated March 15, 2024.

¹⁴ See Memorandum, “Consultations with the People's Republic of China,” dated March 26, 2024; and Memorandum, “Consultations with Officials from the Government of India,” dated March 28, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁵ they do so for different purposes and pursuant to a separate and distinct authority. In addition, Commerce's determination is subject to limitations of time and information. Although this may result in different definitions of the like product, such differences do not render the decision of either agency contrary to law.¹⁶

¹⁵ See section 771(10) of the Act.

¹⁶ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁷ Based on our analysis of the information submitted on the record, we have determined that 2,4-D, as defined in the scope, constitutes a single domestic like product, and we have analyzed industry support in terms of that domestic like product.¹⁸

¹⁷ See Petitions at Volume I (pages 11-16 and Exhibits I-5, I-6 and I-9); see also First General Issues Supplement at 3-6.

¹⁸ For a discussion of the domestic like product analysis as applied to these cases and information regarding industry support, see Checklists, “Countervailing Duty Investigation Initiation Checklist: 2,4-D from the People's Republic of China and India,” dated concurrently with, and hereby adopted by, this notice (Country-Specific CVD Checklists), at Attachment II, “Analysis of Industry Support for the Antidumping and Countervailing Duty Petitions Covering 2,4-Dichlorophenoxyacetic Acid from the People's Republic of China and India” (Attachment II). These checklists are on file electronically via ACCESS.

In determining whether the petitioner has standing under section 702(c)(4)(A) of the Act, we considered the industry support data contained in the Petitions, and supplements thereto, with reference to the domestic like product as defined in the “Scope of the Investigations,” in the appendix to this notice.

To establish industry support, the petitioner provided its own production of the domestic like product in 2023 and compared this to the estimated total production of the domestic like product for the entire domestic industry.¹⁹ We relied on data provided by the petitioner for purposes of measuring industry support.²⁰

¹⁹ See Industry Support Supplement at 1-6 and Exhibits S-I-21, S-I-23, S-I-24, and S-I-29.

²⁰ Id. For further discussion, see Attachment II of the Country-Specific CVD Initiation Checklists.

On March 29, 2024, we received comments on industry support from Nufarm Americas Inc. (Nufarm), a U.S. importer and converter of 2,4-D.²¹ On April 2, 2024, the petitioner responded to the letter from Nufarm.²² On April 11, 2024, we received comments on industry support from Drexel Chemical Company (Drexel), a U.S. importer and converter of 2,4-D.²³

²¹ See Nufarm's Letter, “Nufarm's Request for the Department to Defer Initiation for Lack of Standing and Poll the Industry,” dated March 29, 2024.

²² See Petitioner's Letter, “Petitioner's Response to Industry Comments,” dated April 2, 2024 (Petitioner's Response).

²³ See Drexel's Letter, “Information Submitted by Drexel Chemical Company to Rebut, Clarify or Correct Corteva's April 9, 2024 Response to Supplemental Questions on Industry Support,” dated April 11, 2024.

Our review of the data provided in the Petitions, the First General Issues Supplement, the Second General Issues Supplement, the letters from Nufarm and Drexel, the Petitioner's Response, the Industry Support Supplement, and other information readily available to Commerce indicates that the petitioner has established industry support for the Petitions.²⁴ First, the Petitions established support from domestic producers (or workers) accounting for more than 50 percent of the total production of the domestic like product and, as such, Commerce is not required to take further action in order to evaluate industry support (e.g., polling).²⁵ Second, the domestic producers (or workers) have met the statutory criteria for industry support under section 702(c)(4)(A)(i) of the Act because the domestic producers (or workers) who support the Petition account for at least 25 percent of the total production of the domestic like product.²⁶ Finally, the domestic producers (or workers) have met the statutory criteria for industry support under section 702(c)(4)(A)(ii) of the Act because the domestic producers (or workers) who support the Petitions account for more than 50 percent of the production of the domestic like product produced by that portion of the industry expressing support for, or opposition to, the Petitions.²⁷ Accordingly, Commerce determines that the Petitions were filed on behalf of the domestic industry within the meaning of section 702(b)(1) of the Act.²⁸

²⁴ See Attachment II of the Country-Specific CVD Initiation Checklists.

²⁵ Id.; see also section 702(c)(4)(D) of the Act.

²⁶ See Attachment II of the Country-Specific CVD Initiation Checklists.

²⁷ Id.

²⁸ Id.

Injury Test

Because China and India are “Subsidies Agreement Countries” within the meaning of section 701(b) of the Act, section 701(a)(2) of the Act applies to these investigations. Accordingly, the ITC must determine whether imports of the subject merchandise from China and/or India materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports exceed the negligibility threshold provided for under section 771(24)(A) of the Act.²⁹

²⁹ See Petitions at Volume I (page 17 and Exhibit I-11); see also First General Issues Supplement at 6 and Exhibit S-I-16.

The petitioner contends that the industry's injured condition is illustrated by a significant and increasing volume of subject imports; underselling and price depression and/or suppression; declining profitability; declines in volume of production and capacity utilization; lost sales and revenues; and lost market share.³⁰ We assessed the allegations and supporting evidence regarding material injury, threat of material injury, causation, as well as negligibility, and we have determined that these allegations are properly supported by adequate evidence and meet the statutory requirements for initiation.³¹

³⁰ See Petitions at Volume I (pages 17-27 and Exhibits I-10 through I-19); see also General Issues Supplement at 6 and Exhibits S-I-16 and S-I-17.

³¹ See Country-Specific CVD Initiation Checklists at Attachment III, Analysis of Allegations and Evidence of Material Injury and Causation for the Antidumping and Countervailing Duty Petitions Covering 2,4-Dichlorophenoxyacetic Acid from the People's Republic of China and India (Attachment III).

Initiation of CVD Investigations

Based upon the examination of the Petitions and supplemental responses, we find that they meet the requirements of section 702 of the Act. Therefore, we are initiating CVD investigations to determine whether imports of 2,4-D from China and India benefit from countervailable subsidies conferred by the GOC and the GOI, respectively. In accordance with section 703(b)(1) of the Act and 19 CFR 351.205(b)(1), unless postponed, we will make our preliminary determinations no later than 65 days after the date of these initiations.

China

Based on our review of the Petitions, we find that there is sufficient information to initiate a CVD investigation on six of the nine programs alleged by the petitioner. For a full discussion of the basis for our decision to initiate an investigation of each program, see the China CVD Initiation Checklist. A public version of the initiation checklist for this investigation is available on ACCESS.

India

Based on our review of the Petitions, we find that there is sufficient information to initiate a CVD investigation on 34 of the 35 programs alleged by the petitioner. For a full discussion of the basis for our decision to initiate an investigation of each program, see the India CVD Initiation Checklist. A public version of the initiation checklist for this investigation is available on ACCESS.

Respondent Selection

The petitioner identified 12 companies in China and four companies in India as producers and/or exporters of 2,4-D.³² Commerce intends to follow its standard practice in CVD investigations and calculate company-specific subsidy rates in these investigations. In the event that Commerce determines that the number of companies is large, and it cannot individually examine each company based upon Commerce's resources, Commerce intends to select mandatory respondents based on U.S. Customs and Border Protection (CBP) data for U.S. imports of 2,4-D from China and India during the POI under the appropriate Harmonized Tariff Schedule of the United States subheading(s) listed in the “Scope of the Investigations” in the appendix.

³² See Petitions at Volume I (page 9 and Exhibit I-2); see also First General Issues Supplement at 1 and Exhibit S-I-2.

On April 1, 2024, Commerce released CBP data on imports of 2,4-D from China and India under administrative protective order (APO) to all parties with access to information protected by APO and indicated that interested parties wishing to comment on CBP data and/or respondent selection must do so within three business days of the publication date of the notice of initiation of these investigations.³³ Comments must be filed electronically using ACCESS. An electronically filed document must be received successfully in its entirety via ACCESS by 5:00 p.m. ET on the specified deadline. Commerce will not accept rebuttal comments regarding the CBP data or respondent selection.

³³ See Memorandum, “Release of Data from U.S. Customs and Border Protection,” dated April 1, 2024.

Interested parties must submit applications for disclosure under APO in accordance with 19 CFR 351.305(b). Instructions for filing such applications may be found on Commerce's website at https://www.trade.gov/administrative-protective-orders.

Distribution of Copies of the Petitions

In accordance with section 702(b)(4)(A) of the Act and 19 CFR 351.202(f), a copy of the public version of the Petitions has been provided to the GOC and the GOI via ACCESS. Furthermore, to the extent practicable, Commerce will attempt to provide a copy of the public version of the Petitions to each exporter named in the Petitions, as provided under 19 CFR 351.203(c)(2).

ITC Notification

Commerce will notify the ITC of its initiation, as required by section 702(d) of the Act.

Preliminary Determination by the ITC

Typically, the ITC will preliminarily determine, within 45 days after the date on which the Petitions were filed, whether there is a reasonable indication that subject imports are materially injuring, or threatening material injury to, a U.S. industry.³⁴ Here, due to Commerce's extension of the initiation decision deadline to further examine the issue of industry support for the Petitions, the ITC has extended the time for issuance of its preliminary determination for imports of 2,4-D from India and China. At this time, the ITC has indicated it will make its preliminary determination on or about May 20, 2024. A negative ITC determination for either country will result in the investigation being terminated with respect to that country.³⁵ Otherwise, these CVD investigations will proceed according to statutory and regulatory time limits.

³⁴ See section 703(a)(1) of the Act.

³⁵ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁶ and, if the information is submitted to rebut, clarify, or correct factual information already on the record, to provide an explanation identifying the information already on the record that the factual information seeks to rebut, clarify, or correct.³⁷ Time limits for the submission of factual information are addressed in 19 CFR 351.301, which provides specific time limits based on the type of factual information being submitted. Interested parties should review the regulations prior to submitting factual information in these investigations.

³⁶ See 19 CFR 351.301(b).

³⁷ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301.³⁸ For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; Commerce will grant untimely filed requests for the extension of time limits only in limited cases where we determine, based on 19 CFR 351.302, that extraordinary circumstances exist. Parties should review Commerce's regulations concerning factual information prior to submitting factual information in these investigations.³⁹

³⁸ See 19 CFR 351.302.

³⁹ See 19 CFR 351.301; see also Extension of Time Limits; Final Rule, 78 FR 57790 (September 20, 2013), and Regulations Improving and Strengthening the Enforcement of Trade Remedies Through the Administration of the Antidumping and Countervailing Duty Laws, 89 FR 20766 (March 25, 2024) (effective April 24, 2024).

Certification Requirements

Any party submitting factual information in an AD or CVD proceeding must certify to the accuracy and completeness of that information.⁴⁰ Parties must use the certification formats provided in 19 CFR 351.303(g).⁴¹ Commerce intends to reject factual submissions if the submitting party does not comply with the applicable certification requirements.

⁴⁰ See section 782(b) of the Act.

⁴¹ See Certification of Factual Information to Import Administration During Antidumping and Countervailing Duty Proceedings, 78 FR 42678 (July 17, 2013) (Final Rule); see also frequently asked questions regarding the Final Rule, available at: https://enforcement.trade.gov/tlei/notices/factual_info_final_rule_FAQ_07172013.pdf.

Notification to Interested Parties

Interested parties must submit applications for disclosure under administrative protective order in accordance with 19 CFR 351.305. Parties wishing to participate in these investigations should ensure that they meet the requirements of 19 CFR 351.103(d), e.g., by filing the required letters of appearance. Note that Commerce has amended certain of its requirements pertaining to the service of documents in 19 CFR 351.303(f).⁴²

⁴² See Administrative Protective Order, Service, and Other Procedures in Antidumping and Countervailing Duty Proceedings, 88 FR 67069 (September 29, 2023).

This notice is issued and published pursuant to sections 702 and 777(i) of the Act and 19 CFR 351.203(c).

Dated: April 23, 2024.
Ryan Majerus,
Deputy Assistant Secretary for Policy and Negotiations, performing the non-exclusive functions and duties of the Assistant Secretary for Enforcement and Compliance.

Appendix

Scope of the Investigations

The merchandise covered by these investigations is 2,4-dichlorophenoxyacetic acid (2,4-D) and its derivative products, including salt and ester forms of 2,4-D. 2,4-D has the Chemical Abstracts Service (CAS) registry number of 94-75-7 and the chemical formula C8H6Cl2O3.

Salt and ester forms of 2,4-D include 2,4-D sodium salt (CAS 2702-72-9), 2,4-D diethanolamine salt (CAS 5742-19-8), 2,4-D dimethyl amine salt (CAS 2008-39-1), 2,4-D isopropylamine salt (CAS 5742-17-6), 2,4-D tri-isopropanolamine salt (CAS 32341-80-3), 2,4-D choline salt (CAS 1048373-72-3), 2,4-D butoxyethyl ester (CAS 1929-73-3), 2,4-D 2-ethylhexylester (CAS 1928-43-4), and 2,4-D isopropylester (CAS 94-11-1). All 2,4-D, as well as the salt and ester forms of 2,4-D, is covered by the scope irrespective of purity, particle size, or physical form.

The conversion of a 2,4-D salt or ester from 2,4-D acid, or the formulation of nonsubject merchandise with the subject 2,4-D, its salts, and its esters in the country of manufacture or in a third country does not remove the subject 2,4-D, its salts, or its esters from the scope. For any such formulations, only the 2,4-D, 2,4-D salt, and 2,4-D ester components of the mixture is covered by the scope of the investigations. Formulations of 2,4-D are products that are registered for end-use applications with the Environmental Protection Agency and contain a dispersion agent.

The country of origin of any 2,4-D derivative salt or ester is determined by the country in which the underlying 2,4-D acid is produced. 2,4-D, its salts, and its esters are classified under Harmonized Tariff Schedule of the United States (HTSUS) subheading 2918.99.2010. Subject merchandise, including the abovementioned formulations, may also be classified under HTSUS subheadings 2922.12.0001, 2921.11.0000, 2921.19.6195, 2922.19.9690, 3808.93.0050 and 3808.93.1400. The HTSUS subheadings and CAS registry numbers are provided for convenience and customs purposes. The written description of the scope of the investigation is dispositive.

[FR Doc. 2024-09270 Filed 4-29-24; 8:45 am]

BILLING CODE 3510-DS-P